DEPARTMENT OF ENERGY

Federal Energy Regulatory Commission

Combined Notice of Filings #1

March 10, 2008

Take notice that the Commission has received the following Natural Gas Pipeline Rate and Refund Report filings:

Docket Numbers: RP08-70-001

Applicants: Discovery Gas Transmission LLC

Description: Discovery Gas Transmission LLC submits Thirteenth Revised Sheet 20 et al to its FERC Gas Tariff, Volume 1, to be effective as of January 1, 2008.

Filed Date: 03/06/2008

Accession Number: 20080307-0132

Comment Date: 5 p.m. Eastern Time on Tuesday, March 18, 2008

Docket Numbers: RP08-262-000

Applicants: Northern Natural Gas Company

Description: Northern Natural Gas Company submits Fifth Revised Volume 1, Original Sheet 66E of its FERC Gas Tariff, proposed to effective on April 7, 2008.

Filed Date: 03/07/2008

Accession Number: 20080307-0128

Comment Date: 5 p.m. Eastern Time on Wednesday, March 19, 2008

Docket Numbers: RP08-263-000

Applicants: Iroquois Gas Transmission System, L.P.

Description: Iroquois Gas Transmission System, LP submits Fourth Revised Sheet 8 to its FERC Gas Tariff, First Revised Volume 1, proposed to be effective April 7, 2008.

Filed Date: 03/07/2008

Accession Number: 20080307-0131

Comment Date: 5 p.m. Eastern Time on Wednesday, March 19, 2008

Docket Numbers: RP08-264-000

Applicants: Colorado Interstate Gas Company

Description: Colorado Interstate Gas Company request an out-of -time adjustment to its storage fuel gas reimbursement percentage and tenders for filing acceptance by the Commission Fiftieth Revised Sheet 11A of CIG'S FERC, First Revised Volume 1 etc, to be effective May 1, 2008.

Filed Date: 03/06/2008

Accession Number: 20080307-0130

Comment Date: 5 p.m. Eastern Time on Tuesday, March 18, 2008

Docket Numbers: RP08-265-000

Applicants: Destin Pipeline Company, L.L.C.

Description: Destin Pipeline Company, LLC submits Second Revised Sheet 16 et al of its FERC Gas Tariff, Original Volume 1 and original revised tariff sheets proposed to become effective April 6, 2008.

Filed Date: 03/07/2008

Accession Number: 20080307-0129

Comment Date: 5 p.m. Eastern Time on Wednesday, March 19, 2008

Docket Numbers: RP08-266-000

Applicants: Columbia Gulf Transmission Company

Description: Columbia Gulf Transmission Company submits Eighth Revised Sheet 1 et al to its FERC Gas Tariff, Second Revised Volume 1, with a proposed effective date of August, 1, 2008.

Filed Date: 03/07/2008

Accession Number: 20080307-0127

Comment Date: 5 p.m. Eastern Time on Wednesday, March 19, 2008

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlineSupport@ferc.gov. or call (866) 208-3676 (toll free). For TTY, call (202) 502-8659.

Nathaniel J. Davis, Sr.,
Deputy Secretary.

[FR Doc. E8-5152 Filed 3-13-08; 8:45 am]

BILLING CODE 6717-01-P